DEPARTMENT OF ENERGY

Federal Energy Regulatory Commission

[Docket Nos. CP16-98-000; PF15-29-000]

Dominion Carolina Gas Transmission, LLC; Notice of Revised Schedule for Environmental Review of the Transco to Charleston Project

This notice identifies the Federal Energy Regulatory Commission staff's revised schedule for the completion of the Environmental Assessment (EA) for Dominion Carolina Gas Transmission, LLC's Transco to Charleston Project. The previous Notice of Schedule, issued on July 25, 2016, identified September 19, 2016 as the EA issuance date. However, Dominion Carolina Gas Transmission, LLC filed a supplement on August 22, 2016 which identified several route adjustments and workspace modifications. As a result, staff has revised the schedule for issuance of the EA.

Schedule for Environmental Review

Issuance of EA: October 19, 2016.

90-day Federal Authorization Decision Deadline: January 17, 2017.

If a schedule change becomes necessary, additional notice will be provided so that the relevant agencies are kept informed of the project's progress.

Additional Information

In order to receive notification of the issuance of the EA and to keep track of all formal issuances and submittals in specific dockets, the Commission offers a free service called eSubscription (www.ferc.gov/docs-filing/esubscription.asp).

Dated: September 8, 2016.
Kimberly D. Bose,
Secretary.

[FR Doc. 2016-22259 Filed 9-15-16; 8:45 am]

BILLING CODE 6717-01-P